DEPARTMENT OF LABOR

Proposed Information Collection Request (ICR) for the Evaluation of the Unemployment Compensation Provisions of the American Recovery and Reinvestment Act of 2009; Comment Request

AGENCY: Office of the Assistant Secretary for Administration and Management, Labor.

ACTION: Notice.

SUMMARY: The Department of Labor (DOL or the Department), as part of its continuing effort to reduce paperwork and respondent burden, conducts a preclearance consultation program to provide the general public and Federal agencies with an opportunity to comment on proposed and/or continuing collections of information in accordance with the Paperwork Reduction Act of 1995 (PRA) [44 U.S.C. 3506(c)(2)(A)]. This program helps to ensure that required data can be provided in the desired format, reporting burden (time and financial resources) is minimized, collection instruments are clearly understood, and the impact of collection requirements on respondents can be properly assessed.

The Department notes that a Federal agency cannot conduct or sponsor a collection of information unless it is approved by the Office of Management and Budget (OMB) under the PRA and the related materials display a currently valid OMB control number. Also, notwithstanding any other provisions of law, no person shall be subject to penalty for failing to comply with a collection of information if the related materials do not display a currently valid OMB control number. See 5 CFR 1320.5(a) and 1320.6.

A copy of the proposed ICR can be obtained by contacting the office listed below in the addressee section of this notice or by accessing http://www.doleta.gov/OMBCN/OMBControlNumber.cfm.

DATES: Written comments must be submitted to the office listed in the addressee section below on or before February 10, 2012.

ADDRESSES: Send comments to Jonathan Simonetta, U.S. Department of Labor, Office of the Chief Evaluation Officer, 200 Constitution Avenue NW., Frances Perkins Bldg., Room S2316, Washington, DC 20210, telephone number (202) 693-5959 (this is not a toll-free number). His email address is simonetta.jon.a@dol.gov and fax number is (202) 693-6061.

SUPPLEMENTARY INFORMATION:

I. Background

The recession that began in late 2007 posed major challenges for the U.S. system of unemployment compensation (UC). For example, sharply increasing lengths of unemployment spells prompted Federal legislation that extended the potential duration of UC benefits to unprecedented levels and led to the adoption of changes to the ways those benefits are financed.

To determine the effectiveness of the most significant UC policy initiatives undertaken in response to these challenges—those included in the American Recovery and Reinvestment Act of 2009 (ARRA) and related extended UC provisions included in the Emergency Unemployment Compensation Act of 2008 (EUC08)—the Department is undertaking the Evaluation of the Unemployment Compensation Provisions of the American Recovery and Reinvestment Act of 2009. The evaluation includes examinations of the UC-related components of ARRA associated with (1) The provision of extended UC benefits through the Extended Benefits (EB) and EUC08 programs, (2) the incentives designed to encourage states to modernize certain aspects of their UC systems, and (3) additional assistance provided to unemployed workers and states to help them weather the effects of the recession. This latter assistance includes the Federal Additional Compensation program and an exemption of the taxation of some UC benefits—approaches to help unemployed workers—and suspension of interest payment provisions to help states. DOL has contracted with Mathematica Policy Research and its subcontractor, Urban Institute, to conduct this evaluation.

The evaluation will address the following research questions:

1. What factors are related to states' decisions on whether to adopt ARRA modernization provisions and the Total Unemployment Rate trigger for EB? What are the economic and political factors related to states' decisions? What do states' experiences imply for future roll-outs of modifications to the UC system?

2. What are states' experiences implementing each of the UC-related ARRA provisions? What factors shape states' implementation experiences? What are the effects of enacting provisions? What are the costs of implementation? How have states used the incentive payments?

3. What are the demographic and economic characteristics of UC recipients? What are their post-UC labor market outcomes?

4. What are the impacts of UC ARRA provisions on recipients' outcomes, such as their unemployment durations and reemployment rates?

5. How well did EUC08 and related programs help to stabilize the economy? To what extent were extended benefits timed to mitigate the effects of the economic downturn? How effective were EB and EUC08 triggers in targeting benefits to states with the most severe unemployment?

In addition to using published and administrative data, the analysis will rely on high-quality data collected from three major sources.

1. UI Recipient Survey. From 20 states that were randomly selected to represent the nation as a whole, 3,000 recipients will be sampled and asked to complete the UI recipient survey. This sample is expected to lead to 2,400 completed surveys based on an expected response rate of 80 percent. The survey will collect information such as the recipients' demographic and economic characteristics; pre-unemployment earnings, occupation, and industry; length of unemployment and time to reemployment; UI benefits accessed; other government support (such as Temporary Assistance for Needy Families and food stamps); household income and assets; the effects of reduced income; training received and completed; coverage by health insurance; reemployment earnings; and other characteristics of post-UI jobs, such as fringe benefits, industry, and occupation.

2. Survey of UI Administrators. A survey of administrators from the 50 states and the District of Columbia will ask about three main study topics, including (1) The decision to adopt UI modernization provisions, (2) general implementation issues, and (3) use of ARRA incentive funds.

3. Site Visits. On-site visits conducted in 20 purposively selected states facilitate the collection of detailed information about why states decided whether to implement certain modernization and EB provisions, as well as states' successes and challenges in implementing the modernization provisions, EUC08, EB, and the Federal Additional Compensation program; an exemption of the taxation of UC benefits; and/or interest payment provisions allowed under ARRA. On-site visits will be supplemented by a Data Systems Survey provided to state-level staff in advance of the in-person visits but discussed during the visits.

II. Desired Focus of Comments

Currently, the Department is soliciting comments concerning the above data collection for the Evaluation of the Unemployment Compensation Provisions of the American Recovery and Reinvestment Act of 2009. Comments are requested to:

• Evaluate whether the proposed ICR is necessary for the proper performance of the functions of the agency, including whether the information will have practical utility

• Evaluate the accuracy of the agency's estimate of the burden of the proposed ICR, including the validity of the methodology and assumptions used

• Enhance the quality, utility, and clarity of the ICR

• Minimize the burden of the ICR on those who are to respond, including the use of appropriate automated, electronic, mechanical, or other technological collection techniques or other forms of information technology, for example, permitting electronic submissions of responses.

III. Current Actions

At this time, DOL is requesting clearance for the UI Recipient Survey, the Survey of UI Administrators, and the site visit data collection materials (which include the protocol and the Data Systems Survey).

Type of Review: New ICR.

OMB Number: XXXX-XXXX.

Affected Public: UI recipients, state UI administrators and other UI program staff, state legislators, lobbyists, and One-Stop Career Center staff.

For the UI Recipient Survey

Frequency: Once.

Total Responses: 2,400.

Average Time per Response: 30 minutes for the survey of UI recipients.

Estimated Total Burden Hours: 1,200.

Total Burden Cost: $17,280.

For the Survey of UI Administrators

Frequency: Once.

Total Responses: 77.¹

¹ The number of respondents and average time per response for the survey of UI administrators are based on an assumption that (1) 26 UI jurisdictions will take 45 minutes to respond (involving 1 respondent for 30 minutes and 1 respondent for 15) and (2) 25 UI jurisdictions will take 15 minutes to respond (1 respondent for 15 minutes).

Average Time per Response:

• 51 State Administrators at 15 minutes each.

• 26 state Administrators at 30 minutes each.

Estimated Total Burden Hours: 26.

Total Burden Cost: $1,318.

For the Site Visit Data Collection

Frequency: Once.

Total Responses:

• State UI office staff time to plan for the site visits.

—80 responses (= 4 staff per state, for 20 states).

—Average time per response = 30 minutes per staff.

—Estimated total burden hours = 40 hours.

• State UI office staff for in-person interviews.

—180 responses (= 9 staff per state, for 20 states).

— Average time per response = 90 minutes per staff.

—Estimated total burden hours = 270 hours.

• Call center administrators for in-person interviews.

—30 responses (= 1.5 staff per state, for 20 states).

—Average time per response = 90 minutes per staff.

— Estimated total burden hours = 45 hours.

• Local One-Stop Career Center administrator for in-person interviews.

—20 responses (= 1 staff per state, for 20 states).

—Average time per response = 90 minutes per staff.

—Estimated total burden hours = 30 hours.

• Other stakeholders for in-person interviews.

—120 responses (= 6 staff per state, for 20 states).

—Average time per response = 90 minutes per staff.

—Estimated total burden hours = 180 hours.

• State staff for the Data Systems Survey.

—20 responses (= 1 staff per state, for 20 states).

—Average time per response = 30 minutes per staff.

—Estimated total burden hours = 10 hours.

Total burden cost for the site visit data collection: $29,147.

Respondents | Total respondents | Frequency of collection | Average time per response (minutes) | Burden (hours) | Burden cost
UI Recipients Survey | 2,400 | Once | 30 | 1,200 | $17,280
Survey of UI Administrators | ²77 | Once | 30 | 26 | 1,318
Site Visit Data Collection
Planning for the Site Visits | 80 | Once | 30 | 40 | 2,028
On-Site Interviews—State UI Office Staff | 180 | Once | 90 | 270 | 13,686
Call Center Administrator | 30 | Once | 90 | 45 | 2,281
Local One-Stop Career Center Administrator | 20 | Once | 90 | 30 | 1,521
Other Stakeholders | 120 | Once | 90 | 180 | 9,124
Data Systems Survey—State Staff | 20 | Once | 30 | 10 | 507
Total for Site Visit Data Collection | 450 |  |  | 575 | 29,147
Total for Surveys and Site Visits | 2,927 |  |  | 1,801 | 47,745

The total burden cost for the UI Recipient Survey represents 30 minutes, on average, for participant respondents to complete the questionnaire multiplied by the number of expected respondents (2,400) and by an estimated average hourly wage of $14.40 per hour.³

² The number of respondents and average time per response for the survey of UI administrators are based on an assumption that (1) 26 UI jurisdictions will take 45 minutes to respond (involving 1 respondent for 30 minutes and 1 respondent for 15) and (2) 25 UI jurisdictions will take 15 minutes to respond (1 respondent for 15 minutes).

³ This hourly wage estimate is the midpoint of wages reported by participants in another DOL study, the initial Individual Training Account Evaluation. In that study, hourly wages for the Individual Training Account study participants ranged between $13.60 and $15.20. McConnell, et al. 2006, “Managing Customers' Training Choices: Findings from the Individual Training Account Experiment.” Washington, DC: Mathematica Policy Research, Inc., December 2006.

The burden cost for the Survey of UI Administrators represents 30 minutes, on average, for respondents to complete the questionnaire multiplied by the number of respondents and by an estimated average hourly wage of $50.69, the average hourly rate for a management position. Thus, the total participant burden for the completion of the enrollment forms is $17,280 (= 2,400 × 30/60 × $14.40).⁴

⁴ This average hourly wage rate is from the “May 2010 National Occupational Employment and Wage Estimates: United States,” available from the Bureau of Labor Statistics, http://www.bls.gov/oes/current/oes_nat.htm#11-0000, accessed May 17, 2011.

The burden cost for site visit data collection is estimated to be 575 hours. For each of 20 states that will be part of this data collection effort, an average of two hours of previsit planning and coordination with the evaluation team is expected. The on-site interviews are expected to include interviews averaging 90 minutes each of (1) 9 state UI office staff; (2) 1.5 call center administrators; (3) 1 administrator in half of the states and 2 administrators in half of the states; (4) 1 local One-Stop Career Center administrator; and (5) 6 other stakeholders, such as lobbyists, legislators, and individuals on the UI Advisory Council. Each state that is part of the site visit data collection effort also will be asked to have a staff person complete the Data Systems Survey in advance of the visit; the time to complete this survey is expected to be 30 minutes. Assuming a wage of $50.69 per hour, the total burden on participants for the site visits is estimated to be 575 hours with a total cost of $29,146 (= $50.69 × 575). Thus the total administrator burden for the completion of the survey is $1,318 (=$50.69 × 26).

The total burden for this ICR is estimated to be 1,801 hours ($47,745 in burden cost), which is the sum of the burdens (and burden costs) for the surveys and site visit data collection effort.

Comments submitted in response to this request will be summarized and/or included in the request for OMB approval; they will also become a matter of public record.

Signed: at Washington, DC, this 7th day of December, 2011.
William E. Spriggs,
Assistant Secretary, Office of the Assistant Secretary for Policy.

[FR Doc. 2011-31812 Filed 12-9-11; 8:45 am]

BILLING CODE 4510-22-P